DEPARTMENT OF HEALTH AND HUMAN SERVICES

National Institutes of Health

Proposed Collection; 60-Day Comment Request Hazardous Waste Worker Training—42 CFR Part 65 National Institute of Environmental Health Sciences (NIEHS)

AGENCY: National Institutes of Health, HHS.

ACTION: Notice.

SUMMARY: In compliance with the requirement of the Paperwork Reduction Act of 1995 to provide opportunity for public comment on proposed data collection projects, the National Institute of Environmental Health Sciences (NIEHS) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Sharon D. Beard, Director, Worker Training Program (WTP), Division of Extramural Research and Training (DERT), NIEHS, P.O. Box 12233 MD: K3-14, Research Triangle Park, NC 27709 or call non-toll-free number 984-287-3237 or Email your request, including your address to: beard1@niehs.nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: Hazardous Waste Worker Training Cooperative Agreement Recipient Data Collection—42 CFR part 65, 0925-0348, Expiration Date 07/31/2025 REVISION, National Institute of Environmental Health Sciences (NIEHS), National Institutes of Health (NIH).

Need and Use of Information Collection: The National Institute of Environmental Health Sciences (NIEHS) was given major responsibility for initiating a worker safety and health training program under Section 126 of the Superfund Amendments and Reauthorization Act of 1986 (SARA) for hazardous waste workers and emergency responders. A network of non-profit organizations that are committed to protecting workers and their communities by delivering high-quality, peer-reviewed safety and health curricula to target populations of hazardous waste workers and emergency responders has been developed. The NIEHS Worker Training Program (WTP) contains the Hazardous Waste Worker Training Program (HWWTP) and the NIEHS/DOE Nuclear Worker Training Program (DOE) to fund nonprofit organizations to develop and administer model health and safety training programs for hazardous materials or waste workers. The Hazardous Materials Worker Health and Safety Training Program provides occupational safety and health training for workers who may be engaged in activities related to hazardous waste removal, containment, or chemical emergency response. This program is the core component of WTP. The other optional programs include the Environmental Career Worker Training Program (ECWTP) that focuses on delivering comprehensive training to increase the number of un- or underemployed workers in areas such as environmental restoration, construction, hazardous materials/waste handling, and emergency response and the HAZMAT Disaster Preparedness Training Program (HDPTP) that supports the development and delivery of training for hazardous material and debris cleanup commonly needed after natural and man-made disasters. The purpose of the NIEHS/DOE Nuclear Worker Training Program is to support the development of model programs for the training and education of workers engaged in activities related to hazardous materials and waste generation, removal, containment, transportation, and emergency response within the DOE nuclear weapons complex. In thirty-seven years (FY 1987-2024) the WTP has successfully supported 25 primary awardees that have trained more than 5 million workers across the country and presented over 316,561 classroom, hands-on, and online training courses, which have accounted for over 60 million contact hours of actual training. Generally, the grant will initially be for one year, and subsequent continuation awards are also for one year at a time. Awardees must submit a separate application to have the support continued for each subsequent year. Awardees are to provide information in accordance with S65.4(a), (b), (c) and 65.6(a) on the nature, duration, and purpose of the training, selection criteria for trainees' qualifications and competency of the project director and staff, the adequacy of training plans and resources, including budget and curriculum, and response to meeting training criteria in OSHA's Hazardous Waste Operations and Emergency Response Regulations (29 CFR 1910.120). As a cooperative agreement, there are additional requirements for the progress report section of the application. Awardees are to provide their information into the WTP Awardee Data Management System. The information collected is used by the Director through officers, employees, experts, and consultants to evaluate applications based on technical merit to determine whether to make awards and whether appropriate training is being conducted to support continuation of the grant into subsequent years.

OMB approval is requested for three years. There are no costs to respondents other than their time. The total estimated annualized burden hours are 800.

Estimated Annualized Burden Hours
Type of respondent | Number of respondents | Number of responses per respondent | Average burden per response (in hours) | Total annual burden hour
Awardee: Project Management Specialists | 25 | 2 | 16 | 800
Total | 25 | 50 |  | 800

Dated: July 25, 2025.
Jennifer Baker,
Project Clearance Liaison, National Institute of Environmental Health Sciences, National Institutes of Health.

[FR Doc. 2025-14286 Filed 7-28-25; 8:45 am]

BILLING CODE 4140-01-P